DEPARTMENT OF ENERGY

Federal Energy Regulatory Commission

Combined Notice of Filings #1

May 5, 2009.

Take notice that the Commission received the following electric rate filings:

Docket Numbers: ER08-1051-003.

Applicants: NSTAR Electric Company.

Description: NSTAR Electric Company submits its Annual Informational Filing under ER08-1051.

Filed Date: 04/27/2009.

Accession Number: 20090428-0018.

Comment Date: 5 p.m. Eastern Time on Monday, May 18, 2009.

Docket Numbers: ER08-1457-000.

Applicants: PPL Electric Utilities Corporation.

Description: Unopposed Motion for Interim Rates and Request for Expedited Action of PPL Electric Utilities Corporation.

Filed Date: 05/01/2009.

Accession Number: 20090501-5263.

Comment Date: 5 p.m. Eastern Time on Friday, May 22, 2009.

Docket Numbers: ER09-412-003.

Applicants: PJM Interconnection LLC.

Description: PJM Interconnection, LLC submits revisions to their Open Access Transmission Tariff and Reliability Assurance Agreement among Load Serving Entities in the PJM Region etc. pursuant to FERC's 3/26/09 order.

Filed Date: 04/27/2009.

Accession Number: 20090430-0240.

Comment Date: 5 p.m. Eastern Time on Monday, May 18, 2009.

Docket Numbers: ER09-889-001.

Applicants: City of Dover, Delaware.

Description: City of Dover, Delaware submits Exhibit A-REC: Revised Dover Rate Schedule et al.

Filed Date: 05/01/2009.

Accession Number: 20090504-0189.

Comment Date: 5 p.m. Eastern Time on Tuesday, May 12, 2009.

Docket Numbers: ER09-1002-000.

Applicants: Midwest Independent Transmission System.

Description: Midwest Independent Transmission System Operator, Inc. submits an amendment to its 4/15/09 filing that commenced the proceeding, by requesting a waiver, to the extent necessary, from the application of the existing provisions etc.

Filed Date: 05/01/2009.

Accession Number: 20090504-0040.

Comment Date: 5 p.m. Eastern Time on Friday, May 22, 2009.

Docket Numbers: ER09-1053-000.

Applicants: PJM Interconnection LLC.

Description: PJM Interconnection, LLC submits an executed Interim Interconnection Service Agreement with Exelon Generation Co, LLC etc.

Filed Date: 04/28/2009.

Accession Number: 20090430-0242.

Comment Date: 5 p.m. Eastern Time on Tuesday, May 19, 2009.

Docket Numbers: ER09-1054-000.

Applicants: San Diego Gas & Electric Company.

Description: San Diego Gas & Electric Company tenders for filing Engineering and Procurement Agreement dated 4/14/09 with Iberdrola Renewables, Inc.

Filed Date: 04/28/2009.

Accession Number: 20090430-0171.

Comment Date: 5 p.m. Eastern Time on Tuesday, May 19, 2009.

Docket Numbers: ER09-1055-000.

Applicants: Southwest Power Pool, Inc.

Description: Southwest Power Pool, Inc. submits Original Service Agreement 1782 to its FERC Electric Tariff, Fifth Revised Volume.

Filed Date: 04/28/2009.

Accession Number: 20090430-0170.

Comment Date: 5 p.m. Eastern Time on Tuesday, May 19, 2009.

Docket Numbers: ER09-1056-000.

Applicants: Southwest Power Pool, Inc.

Description: Southwest Power Pool, Inc. submits Original Service Agreement 1784 to its FERC Electric Tariff, Fifth Revised Volume 1.

Filed Date: 04/28/2009.

Accession Number: 20090430-0169.

Comment Date: 5 p.m. Eastern Time on Tuesday, May 19, 2009.

Docket Numbers: ER09-1057-000.

Applicants: Southwest Power Pool, Inc.

Description: Southwest Power Pool, Inc. submits executed Large Generator Interconnection Agreement between SPP as Transmission Provider, WFEC as Interconnection Owner, and Blue Canyon Windpower V LLC as Interconnection Customer.

Filed Date: 04/27/2009.

Accession Number: 20090430-0177.

Comment Date: 5 p.m. Eastern Time on Monday, May 18, 2009.

Docket Numbers: ER09-1058-000.

Applicants: Tampa Electric Company.

Description: Tampa Electric Company submits Eighth Revised Sheet No 70 et al. to First Revised Rate Schedule FERC No 62.

Filed Date: 04/29/2009.

Accession Number: 20090430-0175.

Comment Date: 5 p.m. Eastern Time on Wednesday, May 20, 2009.

Docket Numbers: ER09-1059-000.

Applicants: Tampa Electric Company.

Description: Tampa Electric Company submits Eighth Revised Sheet No. 118 to Second Revised Rate Schedule FERC No. 49.

Filed Date: 04/29/2009.

Accession Number: 20090430-0174.

Comment Date: 5 p.m. Eastern Time on Wednesday, May 20, 2009.

Docket Numbers: ER09-1060-000.

Applicants: Wisconsin Electric Power Company.

Description: Wisconsin Electric Power Company submits executed Wholesale Distribution Service Agreement between Wisconsin Electric and WPPI Energy.

Filed Date: 04/29/2009.

Accession Number: 20090430-0168.

Comment Date: 5 p.m. Eastern Time on Wednesday, May 20, 2009.

Docket Numbers: ER09-1079-000.

Applicants: Michigan Electric Transmission Company, LLC.

Description: Michigan Electric Transmission Company, LLC submits for acceptance First Revised Service Agreement 1926 et al. to its FERC Electric Tariff, Fourth Revised Volume 1.

Filed Date: 05/01/2009.

Accession Number: 20090504-0193.

Comment Date: 5 p.m. Eastern Time on Friday, May 22, 2009.

Docket Numbers: ER09-1080-000.

Applicants: Southwest Power Pool, Inc.

Description: Southwest Power Pool, Inc. submits an executed Meter Agent Services Agreement between Lincoln Electric System as both Market Participant and the Meter Agent.

Filed Date: 05/01/2009.

Accession Number: 20090504-0176.

Comment Date: 5 p.m. Eastern Time on Friday, May 22, 2009.

Docket Numbers: ER09-1081-000.

Applicants: Southwest Power Pool, Inc.

Description: Southwest Power Pool, Inc. submits an executed Second Amended Agreement for Interchange of Power and Interconnected Operation between Associated Electric Cooperative, Inc. etc.

Filed Date: 05/01/2009.

Accession Number: 20090504-0175.

Comment Date: 5 p.m. Eastern Time on Friday, May 22, 2009.

Docket Numbers: ER09-1082-000.

Applicants: Entergy Services, Inc.

Description: Entergy Operating Companies submits an amendment to the Entergy System Agreement.

Filed Date: 05/01/2009.

Accession Number: 20090504-0177.

Comment Date: 5 p.m. Eastern Time on Friday, May 22, 2009.

Docket Numbers: ER09-1083-000.

Applicants: New England Power Pool.

Description: New England Power Pool Participants Committee submits counterpart signature pages of the NEPOOL Agreement, dated as of 9/1/71 as amended executed by EMI Power Systems, LLC et al.

Filed Date: 05/01/2009.

Accession Number: 20090504-0178.

Comment Date: 5 p.m. Eastern Time on Friday, May 22, 2009.

Docket Numbers: ER09-1084-000.

Applicants: Hermiston Power, LLC.

Description: Hermiston Power, LLC submits Notice of Succession notifying the Commission that is has succeeded, by reason of a change in name, to Hermiston Power Partnership's FERC Electric Tariff, First Revised Volume 1.

Filed Date: 05/01/2009.

Accession Number: 20090504-0179.

Comment Date: 5 p.m. Eastern Time on Friday, May 22, 2009.

Docket Numbers: ER09-1085-000.

Applicants: Consolidated Edison Company of New York, Inc.

Description: Consolidated Edison Company of New York, Inc. submits amendments to their Delivery Service Rate Schedule 96, and amendments to Economic Development Delivery Service Rate Schedule, FERC Rate Schedule 92.

Filed Date: 05/01/2009.

Accession Number: 20090504-0191.

Comment Date: 5 p.m. Eastern Time on Friday, May 22, 2009.

Docket Numbers: ER09-1086-000.

Applicants: Southwest Power Pool, Inc.

Description: Southwest Power Pool, Inc. submits an executed Service Agreement for Network Integration Transmission Service between SPP as Transmission Provider and Lincoln Electric System as Network Customer etc.

Filed Date: 05/01/2009.

Accession Number: 20090504-0180.

Comment Date: 5 p.m. Eastern Time on Friday, May 22, 2009.

Docket Numbers: ER09-1087-000.

Applicants: Ameren Services Company.

Description: Central Illinois Public Service Company submits an executed service agreement for Wholesale Distribution Service with Prairie Power, Inc.

Filed Date: 05/01/2009.

Accession Number: 20090504-0181.

Comment Date: 5 p.m. Eastern Time on Friday, May 22, 2009.

Docket Numbers: ER09-1088-000.

Applicants: Pacific Gas and Electric Company.

Description: Pacific Gas and Electric Company submits three notices terminating Generator Special Facilities Agreement and Generator Interconnection Agreement between PG&E and Ameresco Half Moon Bay, LLC etc.

Filed Date: 05/01/2009.

Accession Number: 20090504-0182.

Comment Date: 5 p.m. Eastern Time on Friday, May 22, 2009.

Docket Numbers: ER09-1089-000.

Applicants: Southern California Edison Company.

Description: Southern California Edison Company submits letter agreement between SCE and Stirling Energy System, Inc.

Filed Date: 05/01/2009.

Accession Number: 20090504-0183.

Comment Date: 5 p.m. Eastern Time on Friday, May 22, 2009.

Docket Numbers: ER09-1090-000.

Applicants: Twin Cities Energy, LLC.

Description: Twin Cities Energy, LLC submits request to amend market based rate tariff.

Filed Date: 04/29/2009.

Accession Number: 20090504-0184.

Comment Date: 5 p.m. Eastern Time on Wednesday, May 20, 2009.

Docket Numbers: ER09-1091-000.

Applicants: Twin Cities Power, LLC.

Description: Twin Cities Energy, LLC submits request to amend market based rate tariff and for Category 1 Seller Determination.

Filed Date: 04/29/2009.

Accession Number: 20090504-0185.

Comment Date: 5 p.m. Eastern Time on Wednesday, May 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Nathaniel J. Davis, Sr.,
Deputy Secretary.

[FR Doc. E9-11071 Filed 5-12-09; 8:45 am]

BILLING CODE 6717-01-P